SOCIAL SECURITY ADMINISTRATION

Agency Information Collection Activities: Comment Request

The Social Security Administration (SSA) publishes a list of information collection packages that will require clearance by the Office of Management and Budget (OMB) in compliance with Public Law 104-13, the Paperwork Reduction Act of 1995, effective October 1, 1995. The information collection packages that are included in this notice are for new information collections and revisions to OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or emailed to the individuals at the addresses and fax numbers listed below:

(OMB), Office of Management and Budget, Attn: Desk Officer for SSA, Fax: 202-395-6974, E-mail address: OIRA_Submission@omb.eop.gov

(SSA), Social Security Administration, DCBFM, Attn: Reports Clearance Officer, 1333 Annex Building, 6401 Security Blvd., Baltimore, MD 21235,Fax: 410-965-6400, E-mail address: OPLM.RCO@ssa.gov

The information collections listed below have been submitted to OMB for clearance. Your comments on the information collections would be most useful if received by OMB and SSA within 30 days from the date of this publication. You can obtain a copy of the OMB clearance packages by emailing OPLM.RCO@ssa.gov.

1. Consent Based Social Security Number Verification Process—0960-NEW.

Note: Please note that we published the 60-day Federal Register Notice for this collection on December 30, 2005, at 70 FR 77439. For the year and a half following that date, we have communicated with multiple businesses interested in this collection and have significantly altered our business process plan based on their comments.

Background

The Social Security Administration (SSA) has provided limited fee based Social Security Number (SSN) verification service to private businesses and other requesters that obtain a valid, signed consent form from the Social Security Number Holder. Based on the consent forms, SSA verifies the Number Holders' SSNs for the requesting party. The Privacy Act of 1974, 5 U.S.C. 552a(b), section 1106 of the Social Security Act, 42 U.S.C. 1306, and SSA regulation at 20 CFR 401.100 establish the legal authority for SSA to provide SSN verifications to third party requesters based on consent. Currently, the consent-based SSN verification service for high volume requesters is a paper-driven, labor-intensive process. In recent years, the demand for SSN verification has grown within the business community. As a result, SSA is developing an Agency strategy to perform fee based SSN verifications with consent in a high volume, centralized process.

The Consent Based Social Security Number Verification (CBSV) process is the first phase of the Agency's long term strategy to provide the business community with fee based disclosures with consent in high volume. SSA is developing CBSV as a user-friendly, Internet-based application with safeguards that will protect the public's information. In addition to the benefit of providing high volume, centralized SSN verification services to the business community in a secure manner, CBSV also will provide the Agency with inherent cost and workload management benefits.

SSA is in the planning stage of developing the Agency's second phase of the fee-based web service system which would provide private industry and other third party requesters with disability and retirement data (including insured status information, dates of entitlement, and benefit amounts). This process, the Consent Based Benefit Information System (CBBI), would assist private insurance or pension benefit companies to determine private entitlements and coordinate entitlement to such benefits. These actions help the requesters to reduce and/or eliminate the overpayment of these benefits to their insured clients. Similar to the CBSV process, companies would be required to enter into a legal agreement with SSA, obtain written consent from the record holder, reimburse SSA, and follow SSA's established systems security and audit guidelines.

The CBSV Collection

The CBSV is a fee-based automated SSN verification service that can be used by private businesses and other requesting parties who register with SSA to use the system and have obtained valid consent from Number Holders. The purpose of the information collection is to verify for the requesting party that the submitted name and SSN match or do not match the information contained in the SSA records. After completing a registration process and paying the fee, the requesting party can submit a file through the CBSV Internet application containing names of Number Holders who have given valid consent, along with each Number Holder's accompanying SSN and date of birth (if available) or obtain real-time results using a web service application or SSA's Business Services Online (BSO) application. The Agency matches the information against SSA's Master File of Social Security Numbers, using SSN, name, date of birth and gender code (if available). If batch mode was used, the requesting party retrieves the results file from SSA; the results file indicates a match or no match for each SSN submitted.

Under the CBSV process, the requesting party does not submit the consent forms to SSA. SSA will require each requesting party to retain a valid consent form for each SSN verification request for a period of seven years. The requesting party is permitted to retain the consent forms in either electronic or paper format.

To ensure the integrity of the CBSV Process, SSA has added a strong audit component that requires audits (called “compliance reviews”) at the discretion of the agency with all audit costs to be borne by the requesting party. These reviews will be conducted by independent certified public accountants (CPAs) to ensure compliance with all the terms and conditions of the parties' agreement with SSA, including a review of the consent forms. This review is performed at the requesting party's place of business to ensure the integrity of the process. In addition, SSA reserves the right to perform unannounced onsite inspections of the entire process including review of the technical systems which maintain the data and transaction records at the requesting party's place of business.

The respondents to the CBSV collection are the participating companies, members of the public who consent to the SSN verification, and CPAs who provide compliance review services.

Type of Request: New information collection.

Time Burden

Participating Companies:

Requirement | Number of respondents | Frequency of response | Average burden per response (minutes) | Estimated annual burden hours
Registration process | 90 | 1 | 120 | 180
Creation of file with SSN holder identification data; maintaining required documentation/forms | 90 | *251 | 60 | 22,590
Using the system to upload request file, check status, and download results file | 90 | 251 | 5 | 1,883
Storing and maintenance of consent forms | 90 | 251 | 60 | 22,590
Activities related to compliance review | 90 | 251 | 60 | 22,590
Total |  |  |  | 69,833
* Please note there are 251 Federal business days per year on which a requesting party could submit a file.

People Whose SSNs Will Be Verified:

Requirement | Number of respondents | Frequency of response | Average burden per response (minutes) | Estimated annual burden hours
Reading and signing authorization for SSA to release SSN verification | 10,000,000 | 1 | 3 | 500,000
Responding to CPA re-contact | 4,500 | 1 | 5 | 375
Total |  |  |  | 500,375

CPAs (conducting compliance review and preparing written report of findings):

Number of Respondents: 90.

Frequency of Response: 1.

Average Burden Per Response: 4,800.

Estimated Annual Burden: 7,200 hours.

Total Collective Burden: 577,408 hours.

Cost Burden

The public burden cost is dependent upon the number of companies and transactions. The first year cost estimates below are based upon 90 participating companies submitting a total of 10 million transactions. The total cost for developing the system is $5.6 million. $2.6 million will be required prior to development of the system. The $3.0 million that SSA has already expended will be recouped over the depreciable life of the system based on the fee per transaction model.

• One-Time Per Company Registration Fee—$5,000

• Estimated Per SSN Transaction Fee—$0.27 ¹

¹ The annual costs associated with the transactions to each company are dependent upon the number of SSN transactions submitted to SSA by the company on a yearly basis. For example, if a company anticipates submitting 1 million requests to SSA for the year, their total transaction cost for the year would be $0.27 × 1,000,000 or $270,000. Periodically, SSA will calculate its costs to provide CBSV services and adjust the fee charged as needed. Companies will be notified in writing of any change and will have the opportunity to cancel the agreement or continue service using the new transaction fee.

• Estimated Per Company Cost To Build Web Service—$200,000 ²

² A company may choose to submit batch files via the SSA Web site or submit real-time individual requests via the SSA Web site. There is no public burden cost with either of these methods of using the CBSV system.

• Estimated Per Company Cost To Store Consent Forms—$20,000

• Estimated Per Company Cost To Contract With CPA for Audit—$8,000

SSA will hold an “open enrollment” season. If more than the estimated number of companies enrolls, the estimated per SSN transaction fee cited above could be less.

2. Medicare Quality Review Forms—20 CFR 418(b)(5)—0960-0707. The Social Security Administration (SSA) uses the Medicare Quality Review Forms collection to verify the information reported on Medicare Part D Subsidy applications (OMB No. 0960-0696) for a selected number of applicants. SSA is planning to expand the scope of this collection by conducting Quality Reviews with some current recipients of Medicare Part D subsidies who have recently undergone the redetermination process (OMB No. 0960-0723). This ICR is for two new appointment letters (forms SSA-9313 and SSA-9314) that such beneficiaries will complete to schedule an appointment for their Quality Review. The respondents are current recipients of Medicare Part D subsidies who have recently undergone a redetermination and who were selected for a Quality Review.

Type of Request: Revision to an existing OMB-approved information collection.

Form No. and name | Number of respondents | Frequency of response | Average burden per response (minutes) | Estimated annual burden hours
SSA-9301 (Medicare Subsidy Quality Review Case Analysis Questionnaire) | 10,000 | 1 | 35 | 5,833
SSA-9302 (Notice of Quality Review Acknowledgement Form for those with Phones) | 10,000 | 1 | 15 | 2,500
SSA-9303 (Notice of Quality Review Acknowledgement Form for those without Phones) | 1,000 | 1 | 15 | 250
SSA-9304 (Checklist of Required Information; burden accounted for with forms SSA-9302, SSA-9303) |  |  |  |
SSA-9308 (Request for Information) | 20,000 | 1 | 15 | 5,000
SSA-9310 (Request for Documents) | 10,000 | 1 | 5 | 833
SSA-9309 (Life Insurance Verification Form) | 8,000 | 1 | 15 | 2,000
SSA-8510 (Authorization to the Social Security Administration to Obtain Personal Information) | 10,000 | 1 | 5 | 833
SSA-9313 (Notice of Appointment Quality Review Acknowledgement Form)* | 4,500 | 1 | 15 | 1,125
SSA-9314 (Notice of Quality Review Acknowledgement Form (unknown phone numbers)* | 500 | 1 | 15 | 125
Total |  |  |  | 18,499
* These are the two new forms being cleared in the current ICR for this collection.

Dated: August 7, 2007.
Elizabeth A. Davidson,
Reports Clearance Officer, Social Security Administration.

[FR Doc. E7-15663 Filed 8-9-07; 8:45 am]

BILLING CODE 4191-02-P